DEPARTMENT OF HOMELAND SECURITY

Post-Contract Award Information

AGENCY: Office of the Chief Procurement Officer, Acquisition Policy and Legislation Office, DHS.

ACTION: 60-Day Notice and request for comments: Extension without change of a currently approved collection, 1600-0003.

SUMMARY: The Department of Homeland Security, Office of the Chief Procurement Officer, Acquisition Policy and Legislation Office, will submit the following information collection request (ICR) to the Office of Management and Budget (OMB) for review and clearance in accordance with the Paperwork Reduction Act of 1995 (Pub. L. 104-13 (as amended), 44 U.S.C. Chapter 35). The Office of the Chief Procurement Officer is soliciting comments related to its request for extension of an existing information collection authority for information collected from contractors during the post-contract award phase of public contract administration under Homeland Security Acquisition Regulation (HSAR).

DATES: Comments are encouraged and will be accepted until November 3, 2008. This process is conducted in accordance with 5 CFR 1320.1.

ADDRESSES: Comments and questions about this Information Collection Request should be forwarded to the Acquisition Policy and Legislation Office, Attn: Patricia Corrigan for the Department of Homeland Security, Office of the Chief Procurement Officer, Room 3114, Washington, DC 20528.

FOR FURTHER INFORMATION CONTACT: Patricia Corrigan, 202-447-5430 (this is not a toll free number).

SUPPLEMENTARY INFORMATION: The Department of Homeland Security (DHS), Office of the Chief Procurement Officer requests renewal of an existing OMB Control Number for information requested from contractors as part of post-contract award administration by DHS acquisition officials. The information requested is specific to each transaction and is required in order for DHS acquisition officials to properly assess contractor technical and management progress in meeting contractual requirements and otherwise performing in the Government's best interest. This notice provides a request for renewal of OMB Control Number 1600-0003 previously granted in August 2005.

The Office of Management and Budget is particularly interested in comments regarding:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, Office of the Chief, Procurement Officer, Acquisition Policy and Legislation Office.

Title: Post-Contract Award Information.

OMB Number: 1600—0003.

Frequency: Once.

Affected Public: Individuals and businesses.

Number of Respondents: 4,061.

Estimated Time per Respondent: 14 hours.

Total Burden Hours: 170,562 annual burden hours.

Total Burden Cost (capital/startup): $0.00.

Total Burden Cost (operating/maintaining): $0.00.

Richard Mangogna,
Chief Information Officer.

[FR Doc. E8-20177 Filed 8-29-08; 8:45 am]

BILLING CODE 4410-10-P